LIBRARY OF CONGRESS

Copyright Office

37 CFR Parts 202

[Docket No. RM 2001-4]

Renewal Copyright Registration

AGENCY: Copyright Office, Library of Congress.

ACTION: Final rule: technical amendment.

SUMMARY: The Copyright Office is making technical amendments in the regulation regarding copyright renewal to reflect the modification in duration of the extended renewal term from forty-seven years to sixty-seven years as a result of the Sonny Bono Copyright Term Extension Act.

EFFECTIVE DATE: May 14, 2001.

FOR FURTHER INFORMATION CONTACT: Kent Dunlap, Principal Legal Advisor for the General Counsel, Telephone: (202) 707-8380. Telefax: (202) 707-8366.

SUPPLEMENTARY INFORMATION: On October 27, 1998, President Clinton signed into law the Sonny Bono Copyright Term Extension Act, Pub. L. 105-298, extending for an additional 20 years the term of copyright protection in the United States. This law increased the extended copyright renewal term under section 304 of the copyright law, from forty-seven years to sixty-seven years. These technical amendments add a reference to Pub. L. 105-298 and substitute sixty-seven years in places where the renewal regulation designates forty-seven years.

List of Subjects in 37 CFR Part 202

Copyright registration.

Technical Amendment

In consideration of the foregoing, the Copyright Office is amending part 202 of 37 CFR, chapter II in the manner set forth below.

PART 202—REGISTRATION OF CLAIMS TO COPYRIGHT

1. The authority citation for part 202 continues to read as follows:

Authority: 17 U.S.C. 702.

§ 202.17 [Amended]

2. In § 202.17:

a. Paragraph (a) is amended by adding “and Pub. L. 105-298.” at the end of the paragraph.

b. Paragraph (c) is amended by removing the phrases “extended forty-seven year second term” and “forty-seven year extended term” and adding “extended sixty-seven year second term” and “sixty-seven year extended term,” respectively.

c. Paragraph (e)(1) is amended by removing the phrase “extended forty-seven year second term” and adding “extended sixty-seven year second term”.

d. Paragraph (f)(1) is amended by removing the phrase “forty-seven year renewal term” and adding “sixty-seven year renewal term.”

Dated: May 9, 2001.
Marilyn J. Kretsinger,
Assistant General Counsel.

[FR Doc. 01-12053 Filed 5-11-01; 8:45 am]

BILLING CODE 1410-30-P